ENVIRONMENTAL PROTECTION AGENCY

[EPA-HQ-OPP-2015-0393; FRL-9952-83]

Registration Review Interim Decisions; Notice of Availability

AGENCY: Environmental Protection Agency (EPA).

ACTION: Notice.

SUMMARY: This notice announces the availability of EPA's interim registration review decisions for 2-(Decylthio)ethanamine Hydrochloride, DTEA-HCl; Aliphatic Alcohols, C1-C5; Bentazon; Chlorfenapyr; Propoxur; Propoxycarbazone-sodium; Sodium Acifluorfen; and Thidiazuron. The Agency is also amending the interim registration review decision for Maleic Hydrazide. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT:

For pesticide specific information, contact: The Chemical Review Manager for the pesticide of interest identified in Table 1 of Unit II.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager identified in Table 1 of Unit II.

B. How can I get copies of this document and other related information?

The docket for this action, identified by docket identification (ID) number EPA-HQ-OPP-2015-0393, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

Pursuant to 40 CFR 155.58(c), this notice announces the availability of EPA's interim registration review decisions for chemicals listed in Table 1.

Pursuant to 40 CFR 155.57, a registration review decision is the Agency's determination whether a pesticide meets, or does not meet, the standard for registration in FIFRA. EPA has considered the chemicals listed in Table 1 in light of the FIFRA standard for registration. For the chemicals listed in Table 1, the Interim Decision documents in the docket describes the Agency's rationale for issuing a registration review interim decision for these pesticides.

In addition to the interim registration review decision documents, the registration review docket for the chemicals listed in Table 1 also includes other relevant documents related to the registration review of these cases. The proposed interim registration review decisions were posted to the docket and the public was invited to submit any comments or new information.

Table 1—Decisions Being Issued or Amended
Registration review case name and number | Docket ID number | Chemical review manager and contact information
2-(Decylthio)ethanamine Hydrochloride, DTEA-HCl, 5029 | EPA-HQ-OPP-2009-0336 | SanYvette Williams, Williams.sanyvette@epa.gov, 703-305-7702.
Aliphatic Alcohols, C1-C5, 4003 | EPA-HQ-OPP-2012-0340 | SanYvette Williams, Williams.sanyvette@epa.gov, 703-305-7702.
Bentazon, 0182 | EPA-HQ-OPP-2010-0117 | Moana Appleyard, Appleyard.moana@epa.gov, 703-308-8175.
Chlorfenapyr, 7419 | EPA-HQ-OPP-2010-0467 | Margaret Hathaway, hathaway.margaret@.epa.gov, 703-305-5076.
Maleic Hydrazide, 0381 | EPA-HQ-OPP-2009-0387 | Ricardo Jones, jones.ricardo@epa.gov, 703-347-0493.
Propoxur, 2555 | EPA-HQ-OPP-2009-0806 | Brittany Pruitt, pruitt.brittany@epa.gov, 703-347-0289.
Propoxycarbazone-sodium, 7264 | EPA-HQ-OPP-2015-0095 | Marianne Mannix, Mannix.marianne@epa.gov, 703-347-0275.
Sodium Acifluorfen, 2605 | EPA-HQ-OPP-2010-0135 | Nathan Sell, sell.nathan@epa.gov, (703) 347-8020.
Thidiazuron, 4092 | EPA-HQ-OPP-2015-0381 | Christina Motilall, motilall.christina@epa.gov, 703-603-0522.

EPA addresses the comments or information received during the 60-day comment period in the discussion for each pesticide listed in Table 1. From the 60-day comment period, public comments received may or may not affect the Agency's interim decision.

Pursuant to 40 CFR 155.58(c), the registration review case docket for the chemicals listed in Table 1 will remain open until all actions required in the interim decision have been completed.

Background on the registration review program is provided at: http://www.epa.gov/pesticide-reevaluation. Earlier documents related to the registration review of a pesticide are provided in the chemical specific dockets listed in Table 1.

Authority: 7 U.S.C. 136 et seq.

Dated: January 11, 2017.
Yu-Ting Guilaran,
Director, Pesticide Re-Evaluation Division, Office of Pesticide Programs.

[FR Doc. 2017-10671 Filed 5-24-17; 8:45 am]

BILLING CODE 6560-50-P